DEPARTMENT OF ENERGY

Federal Energy Regulatory Commission

[IC07-6Q-001, FERC 6Q]

Commission Information Collection Activities, Proposed Collection; Comment Request; Extension

March 30, 2007.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review and extension of this information collection requirement. Any interested person may file comments directly with OMB and should address a copy of those comments to the Commission as explained below. The Commission received no comments in response to an earlier Federal Register notice of December 15, 2006 (71 FR 75523-75524) and has made this notation in its submission to OMB.

DATES: Comments on the collection of information are due by May 4, 2007.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at 202-395-4650. A copy of the comments should also be sent to the Federal Energy Regulatory Commission, Office of the Executive Director, ED-34, Attention: Michael Miller, 888 First Street, NE., Washington, DC 20426. Comments may be filed either in paper format or electronically. Those persons filing electronically do not need to make a paper filing. For paper filings an original and 14 copies, of such comments should be submitted to the Secretary of the Commission, Federal Energy Regulatory Commission, 888 First Street, NE., Washington, D.C. 20426 and should refer to Docket No. IC07-6Q-001.

Documents filed electronically via the Internet must be prepared in WordPerfect, MS Word, Portable Document Format, or ASCII format. To file the document, access the Commission's Web site at http://www.ferc.gov and click on “Make an E-Filing,” and then follow the instructions for each screen. First time users will have to establish a user name and password. The Commission will send an automatic acknowledgement to the sender's e-mail address upon receipt of comments. User assistance for electronic filings is available at 202-502-8258 or by e-mail to efiling@ferc.gov. Comments should not be submitted to this e-mail address.

All comments may be viewed, printed or downloaded remotely via the Internet through FERC's homepage using the “eLibrary” link. Enter the docket number excluding the last three digits in the docket number field to access the document. For user assistance, contact FERCOnlineSupport@ferc.gov or toll-free at (866) 208-3676, or for TTY, contact (202) 502-8659.

FOR FURTHER INFORMATION CONTACT: Michael Miller may be reached by telephone at (202)502-8415, by fax at (202)273-0873, and by e-mail at michael.miller@ferc.gov.

SUPPLEMENTARY INFORMATION:

Description

The information collection submitted for OMB review contains the following:

1. Collection of Information: FERC 6Q “Quarterly Financial Report of Oil Pipeline Companies.”

2. Sponsor: Federal Energy Regulatory Commission.

3. Control No.: 1902-0206.

The Commission is now requesting that OMB approve and extend the expiration date for an additional three years with no changes to the existing collection. The information filed with the Commission is mandatory.

4. Necessity of the Collection of Information: Submission of the information is necessary for the Commission to carry out its responsibilities in implementing the statutory provisions of the Interstate Commerce Act (ICA), (49 U.S.C.). Although the Commission requires jurisdictional entities to file financial information, a general weakness in this reporting program has been the frequency with which the financial reports are required. In a rapidly changing business environment, annual reporting is simply insufficient. Financial accounting and reporting provides needed information concerning a company's past performance and its future prospects. Without reliable financial statements prepared in accordance with the Commission's Uniform System of Accounts and related regulations, the Commission would be unable to accurately determine the costs that relate to a particular time period, service or line of business. Additionally, it would be difficult to determine whether a given entity has previously been given the opportunity to recover its cost through rates, or to compare how the financial performance and results of operations of one regulated entity relates to that of another.

The need for current and better disclosures in financial statements drives the increasing demand for timely, relevant and reliable financial information. As such, the FERC Form 6-Q Quarterly Report provides the Commission with a more timely and informative picture of the jurisdictional oil pipeline entities' financial and operational condition.

More specifically, the Commission's Office of Enforcement (OE) uses the FERC Form 6-Q data collected to assist in the implementation of its financial and operational audits and investigation programs, in the review of the financial condition of regulated companies, and in the assessment of energy markets. The Office of Energy Markets and Reliability (OEMR) uses the data collected for its various rate proceedings and economic analysis. The Office of Administrative Litigation (OAL) uses the data collected for background research for use in litigation. The Office of General Counsel (OGC) uses the data in its programs relating to the administration of the ICA.

5. Respondent Description: The respondent universe currently comprises 138 companies (on average) subject to the Commission's jurisdiction.

6. Estimated Burden: 62,100 total hours, 138 respondents (average), 3 responses per respondent, and 150 hours per response (average).

7. Estimated Cost Burden to respondents: 62,100 hours/2080 hours per years × $117,321 per year = $3,646,494. The cost per respondent is equal to $26,424.

Statutory Authority: 49 App. U.S.C. §§ 1-85 (1988).

Philis J. Posey,
Acting Secretary.

[FR Doc. E7-6322 Filed 4-4-07; 8:45 am]

BILLING CODE 6717-01-P